ENVIRONMENTAL PROTECTION AGENCY

[EPA-HQ-OPP-2010-0650; FRL-8855-5]

Propionic Acid and Salts, Urea Sulfate, Methidathion, and Methyl Parathion; Registration Review Final Decisions; Notice of Availability

AGENCY: Environmental Protection Agency (EPA).

ACTION: Notice.

SUMMARY: This notice announces the availability of EPA's final registration review decisions for the pesticides propionic acid and salts, case no. 4078, urea sulfate, case no. 7213, methidathion, case no. 0034, and methyl parathion, case no. 0153. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT: For pesticide specific information, contact: The chemical review manager identified in Table 1 of Unit II for the pesticide of interest.

For general information on the registration review program, contact: Kevin Costello, Pesticide Re-evaluation Division (7508P), Office of Pesticide Programs, Environmental Protection Agency, 1200 Pennsylvania Ave., NW., Washington, DC 20460-0001; telephone number: (703) 305-5026; fax number: (703) 308-8090; e-mail address: costello.kevin@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How can I get copies of this document and other related information?

EPA has established a docket for this action under docket identification (ID) number EPA-HQ-OPP-2010-0650. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What action is the agency taking?

Pursuant to 40 CFR 155.58(c), this notice announces the availability of EPA's final registration review decisions for the pesticides in the table below—propionic acid and salts, case 4078, urea sulfate, case no. 7213, methidathion, case no. 0034, and methyl parathion, case no. 0153. The active ingredient propionic acid is a fungicide and bactericide that is used to control fungi and bacteria in stored hay and grains, inhibit bacterial growth in drinking water for livestock and poultry, control mold and fungi in poultry litter and animal feed, and sanitize pre-cleaned food contact surfaces. Propionic acid is also used as an inert ingredient in pesticide formulations. Propionic acid and its salts, sodium and calcium propionates, are approved by the Food and Drug Administration (FDA) in the United States as Generally Recognized As Safe (GRAS) for use in food. Propionic acid and salts, are exempt from the requirement of a tolerance. Urea sulfate is used as a desiccant on cotton. No food crop uses remain and all tolerances for urea sulfate have been deleted. Methidathion is a non-systemic, organophosphate (OP) used as an insecticide/acaricide on a wide variety of terrestrial food and feed crops and terrestrial non-food crops. Methyl parathion is a restricted use OP insecticide and acaricide registered for use on a variety of food and feed crops, with the majority of use occurring on cotton, corn, and rice.

Table—Registration Review Cases With Final Decisions
Registration review case name and No. | Pesticide Docket ID No. | Chemical review manager, telephone No., e-mail address
Propionic Acid and Salts—4078 | EPA-HQ-OPP-2008-0024 | Wilhelmena Livingston, (703) 308-8025, livingston.wilhelmena@epa.gov.
Urea Sulfate—7213 | EPA-HQ-OPP-2007-0202 | Andrea Mojica, (703) 308-0122, mojica.andrea@epa.gov.
Methidathion—0034 | EPA-HQ-OPP-2008-0723 | Jose Gayoso, (703) 347-8652, gayoso.jose@epa.gov.
Methyl Parathion—0153 | EPA-HQ-OPP-2009-0332 | Kelly Ballard, (703) 305-8126, ballard.kelly@epa.gov.

Pursuant to 40 CFR 155.57, a registration review decision is the Agency's determination whether a pesticide meets, or does not meet, the standard for registration in FIFRA. EPA has considered propionic acid and salts, urea sulfate, methidathion, and methyl parathion in light of the FIFRA standard for registration. The propionic acid and salts, urea sulfate, methidathion, and methyl parathion Final Decision documents in the docket describes the Agency's rationale for issuing a registration review final decision for these pesticides.

In addition to the final registration review decision documents, the registration review docket for propionic acid and salts, urea sulfate, methidathion and methyl parathion also includes other relevant documents related to the registration review of these cases. The proposed registration review decisions were posted to the docket and the public was invited to submit any comments or new information. During the 60-day comment period, the public comments received were not substantive and did not affect the Agency's final decisions. Pursuant to 40 CFR 155.58(c), the registration review case docket for propionic acid and salts, urea sulfate, methidathion, and methyl parathion will remain open until all actions required in the final decisions have been completed.

Background on the registration review program is provided at: http://www.epa.gov/oppsrrd1/registration_review. Links to earlier documents related to the registration review of these chemicals are provided at: http://www.epa.gov/oppsrrd1/registration_review/propionic_acid/index.htm., http://www.epa.gov/oppsrrd1/registration_review/urea_sulfate/index.htm., http://www.epa.gov/oppsrrd1/registration_review/methidathion/index.htm., http://www.epa.gov/oppsrrd1/registration_review/methyl-parathion/index.html.

B. What is the agency's authority for taking this action?

Section 3(g) of FIFRA and 40 CFR part 155, subpart C, provide authority for this action.

List of Subjects

Environmental protection, Pesticides and pests, Propionic acid and salts, Urea sulfate, Methidathion, and Methyl parathion.

Dated: December 7, 2010.
Richard P. Keigwin, Jr.,
Director, Pesticide Re-evaluation Division, Office of Pesticide Programs.

[FR Doc. 2010-31338 Filed 12-14-10; 8:45 am]

BILLING CODE 6560-50-P